ENVIRONMENTAL PROTECTION AGENCY

[ER-FRL-6675-5]

Environmental Impacts Statements; Notice of Availability

Responsible Agency: Office of Federal Activities, General Information (202) 564-7167 or http://www.epa.gov/compliance/nepa/.

Weekly receipt of Environmental Impact Statements

Filed May 15, 2006 through May 19, 2006

Pursuant to 40 CFR 1506.9.

EIS No. 20060197, Final EIS, FHW, CO, US Highway 160, Transportation Improvements from Junction US 160/550 Durango—East to Bayfield, U.S. Army COE Section 404 Permit, La Plata County, CO, Wait Period Ends: June 26, 2006, Contact: Joseph R. Duran 720-963-3006.

EIS No. 20060198, Final EIS, AFS, MT, Helena National Forest Noxious Weed Treatment Project, Implementation, Lewis and Clark, Broadwater, Powell, Jefferson and Meagher Counties, MT, Wait Period Ends: June 26, 2006, Contact: Dennis Heffner 406-495-3727.

EIS No. 20060199, Final EIS, AFS, MI, Huron-Manistee National Forests, Land and Resource Management Plan, Implementation, Several Counties, MI, Wait Period Ends: June 26, 2006, Contact: Jeffery G. Pullen 231-775-3183.

EIS No. 20060200, Draft EIS, COE, 00, Programmatic—Ohio River Mainstem System Study, System Investment Plan (SIP) for Maintaining Safe, Environmentally Sustainable and Reliable Navigation on the Ohio River, IL, IN, OH, KY, PA and WV, Comment Period Ends: July 18, 2006, Contact: Veronica Rife 502-315-6785.

EIS No. 20060201, Final EIS, NRS, AR, Little Red River Irrigation Project, Develop a Water Management Plan for Irrigation Purposes in Seary, U.S. Army COE Section 404 Permit, Raft Creek, White County, AR, Wait Period Ends: June 26, 2006, Contact: Belinda Bell 501-301-3149.

EIS No. 20060202, Final EIS, NOA, 00, Snapper Grouper Fishery, Amendment 13C to the Fishery Management Plan, Phase Out Overfishing of Snowy Grouper, Golden Tilefish, Vermilion Snapper and Sea Bass, Implementation, South Atlantic Region , Wait Period Ends: June 26, 2006, Contact: Dr. Roy E. Crabtree 727-824-5301.

EIS No. 20060203, Draft EIS, BLM, WY, Maysdorf Coal Lease by Application (LBA) Tract, (Federal Coal Application WYW154432), Implementation, Campbell Counties, WY, Comment Period Ends: July 25, 2006, Contact: Nancy Doelger 307-261-7627.

EIS No. 20060204, Draft EIS, AFS, OR, Mt. Hood National Forest and Columbia River Gorge National Scenic Area, Site-Specific Invasive Plant Treatments, Forest Plan Amendments #16, Mt. Hood National Forest and Columbia River Gorge National Scenic Area, Clackamas, Hood River, Multnomah and Wasco Counties, OR, Comment Period Ends: July 13, 2006, Contact: Jennie O'Connor 503-668-1645.

EIS No. 20060205, Draft EIS, AFS, PA, Allegheny National Forest, Proposed Revised Land and Resource Management Plan, Implementation, Elk, Forest, McKean and Warren Counties, PA, Comment Period Ends: August 28, 2006, Contact: William Connelly 814-723-5150.

EIS No. 20060206, Draft EIS, FRC, MS, Clean Energy Liquefied Natural Gas (LNG) Import Terminal and Natural Gas Pipeline Facilities, Construction and Operation, US Army COE Section 10 and 404 Permits, (FERC/EIS-0192D), Port of Pascagoula, Jackson County, MS, Comment Period Ends: July 10, 2006, Contact: Todd Sedmak 1-866-208-3372.

EIS No. 20060207, Draft EIS, FRC, MS, Casotte Landing Liquefied Natural Gas (LNG) Import and Interstate Natural Gas Transmission Facilities, Construction and Operation, U.S. Army COE Section 404 Permit, (FERC/EIS-0193D), near the City of Pascagoula, Jackson County, MS, Comment Period Ends: July 10, 2006, Contact: Todd Sedmak 1-866-208-3372.

EIS No. 20060208, Draft EIS, AFS, 00, Heavenly Mountain Resort Master Plan Amendment 2005 (MPA 05), Improve and Enhance the Resorts Over Winter and Summer Recreation Opportunities, Special-Use-Permit, Lake Tahoe Basin, El Dorado County, CA and Douglas County, NV, Comment Period Ends: July 17, 2006, Contact: Matt Dickinson 530-543-2769.

EIS No. 20060209, Draft EIS, NPS, PA, Flight 93 National Memorial, Designation of Crash Site to Commemorate the Passengers and Crew of Flight 93, Implementation, Stonycreek Township, Somerset County, PA, Comment Period Ends: July 17, 2006, Contact: Jeff Reinbold 814-443-4557.

EIS No. 20060210, Final EIS, UAF, AZ, Barry M. Goldwater Range (BMGR), Integrated Natural Resources Management Plan (INRMP), Implementation, Yuma, Pima, and Maricopa Counties, AZ, Wait Period Ends: June 26, 2006, Contact: Carol Heathington 623-856-8492.

EIS No. 20060211, Draft EIS, DOE, 00, Strategic Petroleum Reserve Expansion, Site Selection of Five New Sites: Chacahoula and Clovelly, in Lafourche Parish, LA; Burinsburg, Claiborne County, MS; Richton, Perry County, MS; and Stratton Ridge, Brazoria County, TX and Existing Site Bayou Choctaw, Iberville Parish, LA, West Hackberry, Cameron and Calcasieu Parishes, LA; and Big Hill, Jefferson County, TX, Comment Period Ends: July 10, 2006, Contact: Donald Silawsky 202-586-1892.

EIS No. 20060212, Draft EIS, AFS, CA, Freeman Project, Reduce Hazardous Fuel and Improving Forest Health, Implementation, Lake Recreation Area, Beckworth Ranger District, Plumas National Forest, Plumas County, CA, Comment Period Ends: July 10, 2006, Contact: Sabrina Stadler 530-836-7141.

EIS No. 20060213, Draft EIS, CGD, MA, Northeast Gateway Deepwater Port License Application to Import Liquefied Natural Gas (LNG) (USCG-2005-22219), Massachusetts Bay, City of Gloucester, MA, Comment Period Ends: July 10, 2006, Contact: Mark Prescott 202-267-0225.

EIS No. 20060214, Final EIS, NRC, NY, Generic—License Renewal of Nuclear Plants for Nine Mile Point Nuclear Station, Units 1 and 2, Supplement 24 to NUREG 1437, Implementation, Lake Ontario, Oswego County, NY, Wait Period Ends: June 26, 2006, Contact: Samuel Hernandez 301-415-4049.

EIS No. 20060215, Final EIS, AFS, AK, Whistle Stop Project, Provide Access to Backcountry Recreation Area on National Forest, System (NFS) Lands, on the Kenai Peninsula between Portage and Moose Pass, Chugach National Forest, Kenai Peninsula Borough, AK , Wait Period Ends: June 26, 2006, Contact: Adam McClory 907-754-2352.

EIS No. 20060216, Final EIS, IBR, 00, Programmatic—Platte River Recovery Implementation Program, Assessing Alternatives for the Implementation of a Basinwide, Cooperative, Endangered Species Recovery Program, Four Target Species: Whooping Crane, Interior Least Tern, Pipping Plover and Pallid Sturgeon, NE, WY, and CO, Wait Period Ends: June 26, 2006, Contact: Curt Brown 303-445-2096.

Amended Notices

EIS No. 20060191, Final EIS, FAA, FL,Panama City-Bay County International Airport (PFN), Proposed Relocation to a New Site, NPDES Permit and U.S. Army COE Section 404 Permit, Bay County, FL, Wait Period Ends: July 5, 2006, Contact: Virginia Lane 407-872-6331 Ext. 129. Revision to FR Notice Published May 19, 2006: Comment Period Extended from June 19, 2006 to July 5, 2006.

Dated: May 23, 2006.
Robert W. Hargrove,
Director, NEPA Compliance Division, Office of Federal Activities.

[FR Doc. E6-8146 Filed 5-25-06; 8:45 am]

BILLING CODE 6560-50-P